DEPARTMENT OF THE INTERIOR

National Park Service

30-Day Notice of Submission to the Office of Management and Budget; Opportunity for Public Comment

AGENCY: Department of Interior, National Park Service.

ACTION: Notice and request for comments.

SUMMARY: Under the provisions of the Paperwork Reduction Act of 1995 (44 U.S.C. 3507 et seq.) and 5 CFR Part 1320, Reporting and Recordkeeping Requirements, the National Park Service (NPS) invites public comments on a revision of a currently approved collection (OMB 1024-0038).

DATES: Public comments on this Information Collection Request (ICR) will be accepted on or before December 31, 2007.

ADDRESSES: You may submit comments directly to the Desk Officer for the Department of the Interior (OMB #1024-0038), Office of Information and Regulatory Affairs, OMB, by fax at 202/395-6566, or by electronic mail at oira_docket@omb.eop.gov. Please also send a copy of your comments to John W. Renaud, Project Coordinator, Historic Preservation Grants, Heritage Assistance Programs, NPS, 1849 C St., NW. (2256), Washington, DC 20240; or via fax at 202/371-1961; or via e-mail at John_Renaud@nps.gov.

FOR FURTHER INFORMATION CONTACT: John W. Renaud, Project coordinator, Historic Preservation Grants, Heritage Assistance Programs, NPS, 1849 C St., NW. (2256), Washington, DC 20240; or via fax at 202/371-1961; or via e-mail at John_Renaud@nps.gov, or via telephone at 202/354-2066. You are entitled to a copy of the entire ICR package free-of-charge.

Comments Received on the 60-Day Federal Register Notice: The NPS published a 60-Day Notice to solicit public comment on this ICR in the Federal Register on August 1, 2007 (Vol. 72, No. 147, Pages 42106-42108). The comment period closed on October 1, 2007. The NPS received no comments as a result of the publication of this 60-Day Federal Register Notice.

SUPPLEMENTARY INFORMATION: Title: Procedures for State, Tribal, and Local Government Historic Preservation Programs; 36 CFR part 61.

Bureau Form Number(s): None.

OMB Number: 1024-0038.

Expiration Date of Approval: November 30, 2007.

Type of Request: Revision of a currently approved collection of information.

Description of Need: This set of information collections has an impact on State, tribal, and local governments that wish to participate formally in the National Historic Preservation Partnership (NHPP) Program, and State and tribal governments that wish to apply for Historic Preservation Fund (HPF) grants. The NPS uses the information collections to ensure compliance with the National Historic Preservation Act, as amended (16 U.S.C. 470 et seq.) as well as the government-wide grant requirements that OMB has issued and the Department of the Interior implements through 43 CFR part 12. This information collection also produces performance data that NPS uses to assess its progress in meeting goals set in Departmental and NPS strategic plans created pursuant to the 1993 Government Performance and Results Act, as amended. This request for OMB approval includes local government burden for information collections associated with various aspects of the Certified Local Government (CLG) program; State government burden for information collections related to the CLG program, the program-specific aspects of the HPF grants to States, maintenance of a State inventory of historic and prehistoric properties, tracking State Historic preservation Office historic preservation consultation with Federal agencies, reporting on other State historic preservation accomplishments, and the State role in the State Program Review Process; and tribal government burden for information collections related to the program-specific aspects of HPF grants to THPOs.

This request includes information collections related to HPF grants to States and to Tribal Historic Preservation Officers/Offices (THPOs). NPS is seeking the revision to reflect the increased number of partners participating in the NHPP and consequently in the previously approved information collections. In addition, a revision is needed because some information collections had not been recognized as such during preparation for earlier OMB approvals. Section 101(b) of the National Historic Preservation Act, as amended, (16 U.S.C. 470a(b)) specifies the role of States in the NHPP program. Section 101(c), section 103(c), and section 301 of the Act (16 U.S.C. 470a(c), 16 U.S.C. 470c(c), and 16 U.S.C. 470w) specify the role of local governments in the NHPP program. Section 101(d) of the Act (16 U.S.C. 470a(d)) specifies the role of tribes in the NHPP program. Section 108 of the Act (16 U.S.C. 470h) created the HPF to support activities that carry out the purposes of the Act. Section 101(e)(1) of the Act (16 U.S.C. 470a(e)) directs the Secretary of the Interior through the NPS to “administer a program of matching grants to the States for the purposes of carrying out” the Act. Similarly, sections 101(d) and 101(e) of the Act direct a program of grants to THPOs for carrying out their responsibilities under the Act. Each year Congress directs NPS to use part of the annual appropriation from the HPF for the State grant program and the tribal grant program. The purpose of both the HPF State grants program and the HPF THPO grants program is to assist States and tribes in carrying out their statutory role in the national historic preservation program. HPF grants to States and THPOs are program grants; i.e., each State/THPO selects its own HPF-eligible activities and projects. Each HPF grant to a State/THPO has two years of fund availability. At the end of the first year, NPS employs a “Use or Lose” policy to ensure efficient and effective use of the grant funds. All 59 States, territories, and the District of Columbia participate in the NHPP program. Almost 1,600 local governments have become Certified Local Governments (CLGs) in order to participate in the NHPP program. Approximately 54 local governments become CLGs each year. Fifty-seven federally-recognized tribes have joined formally the NHPP and have established Tribal Historic Preservation Officers and tribal historic preservation offices. Typically, each year five to seven tribes join the partnership. NPS developed the information collections associated with 36 CFR Part 61 in consultation with State, Tribal, and local government partners. The obligation to respond is required to provide information to evaluate whether or not State, tribal, and local governments meet minimum standards and requirements for participation in the NHPP program; and to meet government-wide requirements for Federal grant programs.

Comments are invited on: (1) Practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information, we cannot guarantee that we will be able to do so.

Automated data collection: NPS has made available to States for completion on-line all of the forms for the HPF State Grants program.

Frequency of collection: Annually.

Description of respondents: State, tribal, and local governments that wish to participate formally in the National Historic Preservation partnership Program and who wish to apply for Historic Preservation fund grant assistance.

Estimated average number of respondents/record keepers: The net number of partners participating in this set of information collections annually is 59 States, territories, and the District of Columbia, 57 Tribes, and 1,554 CLGs.

Estimated average number of responses: NPS estimates that there are 35,927 responses per year. This is the gross number of responses for all of the elements included in this set of information collections.

Estimated average number of State HPF grant-related applicant responses: 58 per year.

Estimated average gross number of State HPF grant-related grantee responses: 407 per year.

Estimated average gross number of State HPF grant-related responses for successful Applicants/Grantees: 465 per year.

Estimate average number of THPO HPF grant-related Applicant responses: 57 per year.

Estimate average gross number of THPO HPF grant-related grantee responses: 143 per year.

Estimated average gross number of THPO HPF application plus grant-related responses: 200 per year.

Estimated average number of State and local CLG program related responses per State/CLG: 44 per year.

Estimated average gross number State and local CLG program related responses for all States/CLGs: 2,936 per year.

Estimated average minimum number of State inventory responses per State: 78 per year.

Estimated average gross minimum number of State inventory responses for all States: 4,602 per year.

Estimated average minimum number of State consultation on Federal project responses per State: 445 per year.

Estimated average gross minimum number of State consultation of Federal projects responses for all States: 26,255 per year.

Estimated average number of other State performance reports per State: 1 per year.

Estimated average gross number of other State performance reports for all States: 25 per year.

Estimated average minimum number of State Program Reviews per State: 1 per year.

Estimated average gross minimum number of State Program Reviews for all States: 14 per year.

Estimated average gross number of responses for all non-grant collections: 33,793 per year.

Estimated average time burden per respondent: NPS estimates that the total public (State plus local) burden for the Certified Local Government (CLG) program averages 36 hours per CLG for the certification, monitoring, and evaluation of each CLG and 45 minutes for reporting of other CLG accomplishments. NPS estimates that the total public (State) burden averages 10 minutes per Federal agency project tracked, 45 minutes per inventory record, 2 hours per reporting on other State accomplishments, and 90 hours per State Program Review. NPS estimates that the total public burden for collections not directly tied to grants is 129 hours per respondent. NPS estimates that the public burden for the HPF-supported State grant program collections of information will average 12 hours per application and 17 hours per grant per year for all of the grant-related collections. The combined total public burden for the HPF State grant program-related information collections would average 29 hours per successful applicant/grantee. NPS estimates that the total public burden for the HPF THPO grant program-related information collections would average 14 hours per successful applicant/grantee. These burden estimates are a one-year average for the two-year grants. The combined total public burden for the 36 CFR part 61-related information collections would average 133 hours per partner. These estimates of burden include time for reviewing instructions, searching existing data sources, gathering and maintaining the data needed, and reviewing the collection of information.

Estimated average burden hours per State HPF grant-related Applicant response: 12 hours.

Estimated average burden hours per State HPF grant-related Grantee response: 17 hours.

Estimated total annual average burden hours per State HPF grant-related respondent: 29 hours.

Estimated total annual average burden hours for all State HPF grant-related responses: 1,541 hours.

Estimated average annual burden hours per THPO HPF grant-related Applicant/Grantee for all responses: 14 hours.

Estimated total annual average burden hours for all THPO HPF grant-related respondents: 781 hours.

Estimated average burden hours in the CLG program per response: 12 hours.

Estimated average burden hours in the State inventory program per response: 40 minutes.

Estimated average burden hours in the Federal agency consultation tracking program per response: 10 minutes.

Estimated average burden hours in other performance reporting per response: 3 hours.

Estimated average burden hours in the State Program Review program per response: 90 hours.

Estimated average annual burden hours per partner for all non grant-related responses: 710 hours.

Estimated Annual Burden on all Respondents for all non grant-related responses: 33,606 hours.

Frequency of response: The frequency of response varies depending upon the activity. In the CLG program, States and local governments participate once for the certification process, once per year for the monitoring of each CLG, once every four years for the evaluation of each CLG, and once a year on a voluntary basis for other performance reporting. Each State adds property records to its inventory and tracks the progress of consultation with Federal agencies as the information becomes available. Each State reports once a year on a voluntary basis for other performance reporting. The National Historic Preservation Act requires that each State undergo a State Program Review every four years. For the program-specific aspects of the HPF grants to State program, the estimated number of responses includes a “Cumulative Products Table” of projected performance in summary format, an “Organization Chart” showing the availability of appropriately qualified staff, and a (major) “Anticipated Activities List”. During the grant cycle, grantees seek NPS approval once for a subgrant (via a project notification) and associated final project report. Each year, every State submits an “End of Year Report” that includes the Cumulative Products Table (which compares actual to proposed performance), a “Sources of Nonfederal Matching Share Report,” a “Project/Activity Database Report,” an “Unexpended Carryover Funds Table and Carryover Statement,” and a “Significant Preservation Accomplishments Summary.” For the program-specific aspects of the HPF grants to THPOs program, the estimated number of responses includes a grant application scope of work, a “Grants Product Summary Table,” an unexpended funds carry-over statement, and a “THPO Annual Report” (a narrative summary of important accomplishments).

Estimated total annual burden: NPS estimates that the estimated combined annual burden on all respondents for all responses will be 35,927 hours.

Dated: November 27, 2007.
Leonard E. Stowe,
NPS, Information Collection Clearance Officer.

[FR Doc. 07-5889 Filed 11-29-07; 8:45 am]

BILLING CODE 4312-52-M